DEPARTMENT OF THE TREASURY

Internal Revenue Service

Privacy Act of 1974, as Amended; System of Records

AGENCY: Internal Revenue Service, Treasury.

ACTION: Notice of proposed new privacy act system of records.

SUMMARY: In accordance with the requirements of the Privacy Act of 1974, as amended, 5 U.S.C. 552a, the Department of the Treasury, Internal Revenue Service, gives notice of a proposed new system of records entitled “Treasury/IRS 00.008—Recorded Quality Review Records.”

DATES: Comments must be received no later than December 24, 2003. This new system of records will be effective January 5, 2004 unless the IRS receives comments that would result in a contrary determination.

ADDRESSES: Comments should be sent to the Office of Governmental Liaison and Disclosure, Internal Revenue Service, 1111 Constitution Avenue, NW., Washington, DC 20224. Comments will be made available for inspection and copying upon request in the Freedom of Information Reading Room (1621), at the above address.

FOR FURTHER INFORMATION CONTACT: Anita Loftin, Senior Policy Analyst, W:CAS 401 West Peachtree Street, NW., Atlanta, Georgia 30308, 404-338-8914 (not a toll-free number).

SUPPLEMENTARY INFORMATION: Our current quality monitoring process does not provide the same opportunity as the proposed system for all calls to be included in the sample selected for quality monitoring. A February 15, 2002 Treasury Inspector General for Tax Administration (TIGTA) review recommended that the IRS institute an automated call recording system that would provide a true random method of selecting calls from the entire population of taxpayer assistance calls. In a follow-up review dated January 16, 2003, TIGTA stated that the planned implementation of call recording will provide the IRS with an important opportunity for improving the effectiveness and efficiency of its quality assurance process and, in turn, would improve the quality of the customer's experience when calling the IRS for assistance. Taxpayers will be notified at the beginning of a call that their call may be monitored or recorded for quality improvement purposes.

The proposed automated call recording system will allow the IRS to improve quality of responses to taxpayers by providing an efficient and effective means of assessing employee performance. Managers may play the recording when discussing the evaluation of the call with the employee. Audio recordings and screen capture images will be kept long enough for the review and discussion process to take place, generally not more than 45 days.

By recording taxpayer calls and tracking employee actions, the IRS will be able to improve its service to the public by providing specific, tangible feedback to employees. The system will automatically keep track of evaluative data and will alert the manager to areas in which the employee needs improvement. As a result, targeted training will be provided to the employee either on-line or in one-on-one coaching sessions. The IRS is currently negotiating the proposed program with representatives of the National Treasury Employees Union.

The new system of records report, as required by 5 U.S.C. 552a(r) of the Privacy Act, has been submitted to the Committee on Government Reform and Oversight of the House of Representatives, the Committee on Governmental Affairs of the Senate and the Office of Management and Budget, pursuant to Appendix I to OMB Circular A-130, “Federal Agency Responsibilities for Maintaining Records About Individuals,” dated November 30, 2000.

The proposed new system of records entitled “Treasury/IRS 00.008—Recorded Quality Review Records” is published in its entirety below.

Teresa Mullett Ressel,
Assistant Secretary for Management and Chief Financial Officer.

Treasury/IRS 00.008

System name:

Recorded Quality Review Records—Treasury/IRS.

System location:

Andover Call Site—W&I, 310 Lowell Street, Andover, MA 01812.

Andover Remote Call Site, 900 Chelmford St., Tower III, Lowell, MA 01851.

Andover Methuen EITC, 96 Milk Street, Methuen, MA 01844.

Atlanta Call Site—W&I, 2385 Chamblee-Tucker Road, Chamblee, Georgia 30341.

Dunwoody AUR Call Site—W&I, 6655 Peachtree-Dunwoody Road, Dunwoody, Georgia 30328.

Austin Call Site—W&I, 1821 Director's Boulevard, Austin, TX 78744.

Baltimore Call Site—W&I, 100 S. Charles Street, Baltimore, MD 21201.

Boston Call Site, 25 New Sudbury Street, 10th Floor, JFK Federal Bldg., Boston, MA 02203.

Brookhaven Call Site—SB/SE, 1040 Waverly Avenue, Holtsville, NY 11742.

Buffalo Call Site—SB/SE, Union & Bennet Road, Cheektowaga, NY 14227.

Cincinnati Call Sitez—SB/SE, 333 Scott Street, Covington, KY 41019.

Cincinnati TE/GE Call Site, Peck Federal Bldg., 550 Main St., Room 2405, Cincinnati, OH 45201.

Cleveland Call Site—W&I, 1240 East 9th Street, Cleveland, OH 44109.

Dallas Call Site—W&I, 114 Commerce Street, Dallas, TX 75242.

Houston Call Site, 8701 South Gessner, Houston, TX 77074.

Denver Call Site—W&I, 600 17th Street, Denver, CO 80202.

Detroit Call Site, McNamara Federal Bldg., 477 Michigan Avenue, Detroit, MI 48226.

Fresno Call Site—W&I, 5045 E. Butler Avenue, Fresno, CA 93888.

Indianapolis Call Site—SB/SE 3849 Richardt Street, Indianapolis, IN 46226.

Jacksonville Call Site—W&I, 4057 Carmichael Drive, Jacksonville, FL 32207.

Jacksonville Call Site—W&I, One Independent Drive, 3rd Floor, Jacksonville, FL 32202.

Kansas City Call Site—W&I, 7720 W. 119th Street, Overland Park, KS 66213.

Memphis Call Site—SB/SE, 5333 Getwell Road, Memphis, TN 38118.

Memphis Call Site, 5410 S. Mendenhall, Ste. 10, Memphis, TN 38141.

Nashville Call Site—SB/SE, 5080 Nolensville Road, Nashville, TN 32701.

Oakland Call Site—SB/SE, 1301 Clay Street, Oakland, CA 94612.

Ogden Call Site—SB/SE, 2262 Wall Street, Ogden, UT 84401.

Ogden Compliance A Call Site, 1160 W. 1200 South St., Ogden, UT 84201.

Ogden Compliance E Call Site, 119 N. Jorgensen Ave., Ogden, UT 84404.

Philadelphia Call Site—SB/SE, 11601 Roosevelt Blvd., Philadelphia, PA 19154.

Philadelphia Compliance Call Site, 11601 Roosevelt Blvd., Philadelphia, PA 19154.

Pittsburgh Call Site—W&I, 100 Liberty Avenue, Pittsburgh, PA 15222.

Portland Call Site—W&I, 1220 SE. 3rd Avenue, Portland, OR 97204.

Richmond Call Site—W&I, 400 N. 8th Street, Richmond, VA 23240.

San Juan Call Site-W&I, 7 Tabonuco Street, San Juan, PR 00968.

Seattle Call Site-W&I, 915 2nd Avenue, Seattle, WA 98174.

St. Louis Call Site—W&I, 1222 Spruce Street, St. Louis, MO 63101.

Chicago Call Site, 230 S. Dearborn St., 22nd Fl., Chicago, IL 60604.

Categories of individuals covered by the system:

IRS employees who respond to taxpayer assistance calls.

Categories of records in the system:

Records required to administer IRS quality review and employee performance feedback programs.

Authority for maintenance of the system:

26 U.S.C. 7801.

Purpose(s):

Records in this system are used to administer IRS quality review programs. Although information will include questions and other statements from taxpayers or their representatives on recordings, the primary focus of the system is to improve service and retrieve information by the employee and not create records focusing on the taxpayer.

Routine uses of records maintained in the system, including categories of users and the purposes of such uses:

Disclosure of returns and return information may be made only as provided by 26 U.S.C. 6103.

Records other than returns and return information may be used to:

(1) Disclose information in a proceeding before a court, adjudicative body, or other administrative body before which the agency is authorized to appear when (a) the agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged.

(2) Provide information to a congressional office in response to an inquiry made at the request of the employee to whom the record pertains.

(3) Disclose information to a contractor when necessary to perform a government contract.

Policies and practices for storing, retrieving, accessing, retaining, and disposing of records in the system:

Storage:

Electronic media and paper.

Retrievability:

Recorded contacts will be retrieved by unique identifier for the IRS employee handling the telephone call. Recorded calls or screens will not be retrieved by taxpayer name or taxpayer identifying number.

Safeguards:

Safeguard access controls will not be less than those provided for by IRM 25.10.1, Information Technology Security Policy and Guidance, and IRM 1.16, Manager's Security Handbook.

Retention and disposal:

Record retention will be established in accordance with the National Archives and Records Administration Regulations part 1228, subpart B-Scheduling Records. Audio recordings and screen capture images will be kept long enough for the review and discussion process to take place, generally not more than 45 days.

System manager(s) and address:

Official prescribing policies and practices: Commissioner, Wage and Investment. Official maintaining the system: Head of the call site maintaining the file. See “system location” above for a list of the call sites and addresses.

Notification procedure:

Individuals may inquire in accordance with instructions appearing at 31 CFR part 1, subpart C, Appendix B. Inquiries should be addressed to the systesm manager address listed above.

Record access procedures:

Individuals seeking access to any record contained in this system of records or seeking to contest its contents, may inquire in accordance with instructions appearing at 31 CFR part 1, subpart C, Appendix B. Inquiries should be addressed to the system manager address listed below.

Contesting record procedures:

26 U.S.C. 7852(e) prohibits Privacy Act amendment of tax records. See “Record Access Procedures” above for seeking amendment for records that are not tax records.

Record source categories:

Records in this system are provided by IRS employees when they provide information by identifying themselves for the purpose of assisting a taxpayer.

Exemptions claimed for the system:

None.

[FR Doc. 03-29240 Filed 11-21-03; 8:45 am]

BILLING CODE 4830-01-P